DEPARTMENT OF TRANSPORTATION

Regional Infrastructure Accelerator Demonstration Program

AGENCY: Build America Bureau, U.S. Department of Transportation (DOT).

ACTION: Notice of Funding Opportunity (NOFO).

SUMMARY: The Build America Bureau (the Bureau) is issuing this NOFO to solicit applications from eligible parties for $24 million in Regional Infrastructure Accelerator (RIA) grants. RIA grants assist entities in developing improved infrastructure priorities and financing strategies for the accelerated development of a project that is eligible for funding under the Transportation Infrastructure Finance and Innovation Act (TIFIA) Credit Program under Chapter 6 of Title 23, United States Code. These grants are intended to support RIAs that: (1) serve a defined geographic area; (2) act as a resource to qualified entities in the geographic area; and (3) demonstrate the effectiveness of the RIA to expedite the delivery of projects eligible for the TIFIA credit program. Projects are not required to apply for or receive TIFIA credit assistance to be eligible; however, applicants who are considering the appropriateness of innovative financing methods to accelerate the delivery of eligible projects are strongly encouraged to apply.

SUPPLEMENTARY INFORMATION: Each section of this notice contains information and instructions relevant to the application process for the RIA grants. All applicants should read this notice in its entirety so that they have the information they need to submit eligible and competitive applications.

Table of Contents

A. Program Description

B. Federal Award Information

C. Eligibility Information

D. Application and Submission Information

E. Application Review Information

F. Federal Award Administration Information

G. Federal Awarding Agency Contacts

H. Other Information

A. Program Description

1. Background: The Bureau is responsible for driving transportation infrastructure development projects in the United States through innovative financing programs. Its mission is to provide access to the Bureau's credit programs in a streamlined, expedient, and transparent manner. In accomplishing its mission, the Bureau also provides technical assistance and encourages innovative best practices in project planning, financing, delivery, and monitoring. The Bureau draws upon the full resources of DOT to best utilize the expertise of DOT's Operating Administrations while promoting a culture of innovation and customer service. Section 1441 of the FAST Act ¹ authorized the Program. In 2021, the Bureau selected the first five Regional Infrastructure Accelerators: (1) Fresno Council of Governments, (2) Chicago Metropolitan Agency for Planning, (3) Northeast Ohio Areawide Coordinating Agency (4), San Diego Association of Governments, and (5) Pacific Northwest Economic Region. In 2022, five additional Regional Infrastructure Accelerators were selected: (1) Central Ohio Transit Authority (COTA), (2) Dona Ana County, New Mexico, (3) Panhandle Regional Planning Commission, Texas, (4) Resilient SR 37 Program, California and, (5) Suffolk County, New York Midway Crossing Project. The Consolidated Appropriations Act, 2022,² appropriated $12 million for the Program and the Consolidated Appropriations Act, 2023,³ appropriated an additional $12 million for the Program, which are collectively the source of funding for this NOFO.

¹ Public Law 114-94, 129 Stat. 1312, 1435 (Dec. 4, 2015).

² Public Law 117-103, div. L, tit. I, 136 Stat. 49, 699 (Mar. 15, 2022).

³ Public Law 117-328, div. L, tit. I (Dec. 29, 2022).

The intent of this Program is to demonstrate and evaluate the viability and effectiveness of a small number of accelerators in expediting the development and delivery of specific transportation projects within the geographic area of each RIA designated by the Bureau. It is the intent of the Bureau to expand the Program coverage building on the earlier designation of RIAs. Therefore, the Bureau continues to be keenly interested in testing several RIA models to address needs based on common transportation infrastructure make-up and challenges within regions, particularly those with less capacity or experience in using innovative financing and project delivery methods, and those supporting eligible entities that are likely to be first time users of the Bureau's credit programs, such as the TIFIA credit program. The Bureau plans to select between six and ten RIAs for awards under this program based on proposals submitted by eligible applicants in response to this notice. Ideally, when considering both the first and the second rounds of awards under this program, there will be a diversity of RIAs selected for awards based on geography (e.g., rural, urban, disadvantaged community), organizational structure (e.g., within a State or Metropolitan Planning Organization), operational business model and focus.

2. Regional Designation: For the purpose of this Program, the Bureau will consider regional designation as broadly defined in the following categories:

a. State or Multi-State: An RIA that serves one State or a group of State entities with common interest in transportation projects being delivered.

b. Urban or Metropolitan Planning Organization (MPO): An RIA that serves a local government or group of local jurisdictions with transportation functions within a metropolitan area. For this Program, if the RIA serves MPOs sharing State boundaries, it would be considered under this category.

c. Rural: An RIA that serves a region of rural communities as defined in this notice. An RIA serving multiple rural communities across state lines would be considered under this category. To be considered a rural RIA, most of the projects listed in the proposal must meet the definition of rural in Section C.5 of this notice.

d. Other: Any proposal that includes multiple jurisdictions with shared priorities and interest, such as a river basin, transportation corridor, etc.

3. Program Goals: The primary intent for the Program is to establish regional infrastructure accelerators to assist entities in accelerating TIFIA-eligible projects through innovative financing strategies. This assistance can be in the form of any of the following, based on the needs of the project(s) that the applicant proposes to assist:

a. Project planning;

b. Studies and analysis, including feasibility, market analysis, project costs, cost-benefit analysis, value for money, public benefit, economic assessments, and environmental reviews;

c. Revenue forecasting, funding and financing options analyses, application of best practices, innovative financing/procurement, and public-private partnerships, where appropriate;

d. Preliminary engineering and design work;

e. Statutory and regulatory compliance analyses;

f. Evaluation of opportunities for private financing, project bundling and/or phasing;

g. Enhancement of rural project sponsors' capacity to use the TIFIA credit program and to the extent applicable, the RRIF credit program, PABs, and other innovative financing methods, helping to bundle projects across multiple smaller jurisdictions to create a project at a scale that is more appropriate for the Bureau's credit assistance, and pool the jurisdictions' resources to apply for TIFIA credit assistance and, to the extent applicable, RRIF credit assistance and PABs, as well as leveraging DOT's Rural Opportunities to Use Transportation for Economic Success (ROUTES) Initiatives' ⁴ products and offerings; and

⁴ https://www.transportation.gov/rural.

h. Other direct, project-specific support as appropriate.

Funding, in the form of and pursuant to a cooperative agreement, will be provided for a period of two years, with an option for a third year for an RIA that meets or exceeds agreed-upon performance targets and subject to the availability of funding. Competitive proposals that demonstrate long-term self-sustainability will be given greater consideration. The Bureau intends to work closely with grant recipients in developing and, as applicable, financing projects within the RIA's geographic area.

4. Changes from the FY 2022 NOFO: This FY 2023 Regional Infrastructure Accelerator Demonstration Program NOFO updates the FY 2022 NOFO to further reflect this Administration's priorities for creating good-paying jobs, improving safety, applying transformative technology, and explicitly addressing climate change and advancing racial equity. Therefore, the Bureau added transit-oriented development (TOD) as an additional point of consideration under the Transformative Projects criterion to clarify how the long-term project outcomes should align with the Administration's priorities in a competitive application. While the Program is not exclusive to TOD projects, proposals to aid projects that incorporate (1) economic development and related infrastructure activities and (2) public infrastructure/joint development opportunities will be more competitive than those that do not. Applicants should refer to Section E of this NOFO for descriptions of the selection criteria, including the new Transformative Projects criterion. Additionally, this NOFO clarifies what would be required of the Applicant to receive a STRONG rating for evaluation Criteria, where applicable, as further described in Section E.1.

B. Federal Award Information

The Bureau hereby requests applications from all interested parties to result in the award of between six and ten cooperative agreement(s), each containing substantial involvement on the part of the Federal government in accordance with 31 U.S.C. 6305. The Bureau anticipates substantial involvement between it and the recipient during this Program, which will include:

• Technical assistance and guidance to the recipients;

• Close monitoring of performance;

• Involvement in technical decisions; and

• Participation in status meetings including kick off meeting and annual technical and budget reviews.

1. Program Funding and Awards:

a. Number of Awards: The Bureau intends to select between six and ten RIAs, based on the number and viability of applications.

b. Size of Award: A total of $24 million is available for this Program. The size of individual awards will be determined by the number of RIAs selected and the funding needed for each to meet the Program objectives. Depending on the strength of applications and total amount requested, the Bureau anticipates providing grants in the range of $2 million to $4 million to establish between six and ten new RIAs. However, the Bureau may make smaller or larger awards depending on the applications received.

2. Funding Period: The Bureau intends to award funds on a yearly basis for a base period of two years under a cooperative agreement. A third option year of funding may be provided subject to RIA performance and the availability of funds.

C. Eligibility Information

1. Eligible Applicants: To be selected as an RIA, an applicant must be an eligible applicant. An eligible applicant is: A U.S. public entity, including a state, multi-state or multi-jurisdictional group, municipality, county, a special purpose district or public authority with a transportation function including a port authority, a tribal government or consortium of tribal governments, MPO, regional transportation planning organization (RTPO), Regional Transportation Commission, or a political subdivision of a State or local government, or combination of two or more of the foregoing.

If more than one public entity is applying in a single proposal, one of the entities must be designated as the lead applicant. Such applicant will be authorized to negotiate and enter into a cooperative agreement with the Government on behalf of the entities, will be responsible for performance, and will be accountable for Federal funds. Applications will be accepted from a partnership between one or more eligible applicants and another U.S. party, such as a private entity, consulting or engineering firms, etc., as long as one of the eligible public entities is designated as the lead applicant and that entity will enter into the cooperative agreement, with the shared goal of establishing and operating the RIA. The location of all RIA application parties, their entire jurisdictions and all proposed projects must be located solely in the United States and its territories. Proposed projects and project sponsors must meet the eligibility requirements for TIFIA credit assistance as further defined in Chapter 3 of the Bureau's Credit Program Guide (https://www.transportation.gov/sites/buildamerica.dot.gov/files/2019-08/Bureau%20Credit%20Programs%20Guide_March_2017.pdf#page=29). In addition, the Bureau will consider the extent to which an applicant demonstrates the capacity to accelerate projects eligible for the TIFIA credit program using innovative financing strategies, including but not limited to the TIFIA and RRIF credit programs, PABs, project bundling, and private investment. Further, the Bureau will consider applications from any RIA that was designated pursuant to the prior NOFO to the extent that funding is available, and only after giving primary consideration to applicants who have not received any funding under this Program.

2. Cost sharing or Matching: There is no requirement for cost sharing or matching the grant funds.

3. Other: For the purposes of this Program, the following terms apply:

a. Rural Infrastructure Project: Consistent with the definition of “rural infrastructure project” for the TIFIA credit program, “rural” for the purposes of this notice is defined as a surface transportation infrastructure project located outside of an urban area with a population greater than 150,000 individuals, as determined by the Bureau of the Census in the 2020 decennial Census (https://www.census.gov/programs-surveys/geography/guidance/geo-areas/urban-rural.html).

b. A proposed region whose geographic authority is in both an urban and a rural area will be designated as urban if the majority of the projects listed in the proposal are in urban areas. Conversely, a proposed region located in both an urban area and a rural area will be designated as rural if the majority of the projects listed in the proposal are in rural areas.

c. Urban/Rural Project determination: A project located in both an urban and a rural area will be designated as urban if less than ½ of the project's costs are spent in a rural area. If ⅔ or more of a project's costs are spent in a rural area, the project will be designated as rural. For projects where between ½ and ⅔ of their costs are in a rural area, the project will be designated as rural if the applicant demonstrates that ⅔ or more of the project's benefits accrue to users in rural areas; if the applicant does not make such demonstration, the project will be designated as urban.

D. Application and Submission Information

1. Address to Request Application Package: Applicants must submit all applications through www.Grants.gov. Instructions for submitting applications can be found at https://www.transportation.gov/buildamerica/financing/tifia/regional-infrastructure-accelerators-program.

2. Content and Form of Application Submission: The application must include the Standard Form 424 (Application for Federal Assistance), cover page, and the application narrative.

a. Cover Page: Each application should include a cover page that contains, at minimum, name of the applicant and sponsor, if applicable, the location; the region of designation; category of designation for which the applicant is to be considered; and RIA budget amount.

b. Application Narrative: The application narrative should follow the basic outline below to address the Program requirements and assist evaluators in locating relevant information.

Section | Section explained
(1) Applicant | See D.2.c(1).
(2) Description of Proposed Geographic/Jurisdictional Region | See D.2.c(2).
(3) Accelerator Proposal | See D.2.c(3).
(4) Budget, Sources and Uses for Full Accelerator Funds | See D.2.c(4).
(5) Selection Criteria | See D.2.c(5).

The application narrative should include the information necessary for the Bureau to determine that the applicant(s) proposed regional focus, the overall accelerator proposal, list of intended projects, budget, and other information satisfy the eligibility requirements set forth in this notice as described in Section C and to assess the selection criteria specified in Section E.1. To the extent practicable, applicants should provide supporting data and documentation in a form that is directly verifiable by the Bureau. The Bureau may ask any applicant to supplement data in its application but expects applications to be complete upon submission.

c. Additional Application Requirements: In addition to the information requested elsewhere in this notice, the proposal should include a table of contents, maps, and graphics, as appropriate, to make the information easier to review. The Bureau recommends that the proposal be prepared with standard formatting preferences (a single-spaced document, using a standard 12-point font such as Times New Roman, with 1-inch margins). The proposal narrative should not exceed 30 pages in length, excluding cover pages and table of contents. The only substantive portions that may exceed the 30-page limit are documents supporting assertions or conclusions made in the 30-page project narrative. If possible, applicants should provide website links to supporting documentation rather than copies of these supporting materials. If supporting documents are submitted, applicants should clearly identify within the project narrative the relevant portion of the project narrative that each supporting document supports. The Bureau recommends using appropriately descriptive file names (e.g., “Project Narrative,” “Maps,” “Memoranda of Understanding” and “Letters of Support,” etc.) for all attachments.

(1) Applicant: This section of the narrative should include information describing the organizational structure and formal/informal relationships between parties associated with the RIA application. It should directly address the eligibility requirements discussed in section C.1 of this notice. The applicant should use this section to explain the organization's history, qualifications, and experience of key individuals who will be working in the proposed RIA. This section should also include descriptions of previous projects relevant to the RIA's activities envisioned in this notice that the organization or its individuals completed. The narrative should place the projects into a broader context of transportation infrastructure investments being pursued by the proposed RIA and its sponsors, and how it will benefit communities within the region.

(2) Description of Proposed Geographic/Jurisdictional Region: This portion of the narrative should precisely identify the geographic region, the jurisdictions, and the agencies the RIA would serve and identify which of the four categories of RIA identified in Section A.2 that this proposal falls under and explain why. The narrative should explain the commonalities and shared interests of parties in the proposed region as the rationale for establishing a region of this construct, along with the affiliations within the proposed region. Consistent with the Department's ROUTES Initiative (https://www.transportation.gov/rural), the Department encourages applicants to describe how activities proposed in their application would address the unique challenges facing rural transportation networks, regardless of the geographic location of those activities.

(3) Accelerator Proposal: This section of the narrative should explain how the applicant(s) propose to establish the RIA and the concept of how it would operate and provide the project-specific services identified in Section A of this notice, along with a proposed timeline for establishing the RIA, with key milestones and suggested performance targets during its operational phase. The applicant should describe, in sufficient detail, the applicant's approach to identifying and building the pipeline of projects to be undertaken and how they will develop such projects utilizing their experience and expertise and identify an initial pipeline of projects that are eligible for TIFIA credit assistance and, to the extent applicable, RRIF credit assistance, PABs, and other innovative financing methods. The narrative should also contain a list of projects that the applicant(s) propose to assist under the RIA. This list, to the extent possible, should include, at a minimum:

• Project name and location;

• Project sponsor;

• Description;

• Bureau program most likely to apply (TIFIA, RRIF, PABs);

• Support activities the applicant envisions the RIA would provide

• Project costs; and

• Project timeline.

(4) Budget, Sources, and Uses for Full Accelerator Funds: The applicant should include a proposed financial plan and budget including the Federal grant amount requested, non-Federal matching funds, in-kind contributions, and other sources. The proposed plan should also include a list of activities and projects as well as all associated costs of the proposed RIA. For non-Federal matching funds, the application should identify the sources as well as supporting documentation indicating the degree to which those funds are committed and dates of their availability. If the applicant proposes that the RIA will reach a point of long-term self-sustainability, the narrative should include a description of how this would happen, and where the long-term funds would be generated.

(5) Selection Criteria: This section of the application should demonstrate how the application aligns with the criteria described in Section E.1 of this notice. The Bureau intends to select and designate RIA that demonstrate in their proposal the ability to effectively assist entities in developing improved infrastructure priorities and financing strategies for the accelerated development of one or more projects eligible for funding under the TIFIA program. DOT will consider the extent to which an RIA is likely to effectively promote investment in eligible projects, develop a pipeline of regional transportation projects, and result in the implementation of projects with innovative financing methods.

The Bureau encourages applicants to either address each criterion or expressly state that the project does not address the criterion. Applicants are not required to follow a specific format, but the outline suggested addresses each criterion separately and promotes a clear discussion that assists project evaluators. To minimize redundant information in the application, the Bureau encourages applicants to cross-reference from this section of their application to relevant substantive information in other sections of the application. The guidance in this section is about how the applicant should organize their application. Guidance describing how the Bureau will evaluate projects against the Selection Criteria is in Section E.1 of this notice. Applicants also should review that section before considering how to organize their application.

Executive Order 13858 directs the Executive Branch Departments and agencies to maximize the use of goods, products, and materials produced in the United States through the terms and conditions of Federal financial assistance awards. If selected for an award, grant recipients must be prepared to demonstrate how they will maximize the use of domestic goods, products, and materials, as applicable, in establishing and operating the RIA. Additionally, recipients should be prepared to demonstrate in their application how the RIA addresses the goals and priorities of the Department's strategic plan (https://www.transportation.gov/dot-strategic-plan). These include: (1) Safety, (2) Economic Strength and Global Competitiveness, (3) Climate and Sustainability, (4) Transformation, and (5) Organizational Excellence. These can include projects that: (1) Are consistent with the National Roadway Safety Strategy, (2) Improves access or provides economic growth opportunities for underserved, overburdened, or rural communities, (3) Considers climate change and sustainability impacts in its planning and construction, (4) Have innovative approaches or delivery methods, and (5) Support Organizational Excellence.

3. Unique Entity Identifier (UEI) and System for Award Management (SAM): Each applicant must: (1) be registered in SAM before submitting its application; (2) provide a valid UEI in its application; and (3) maintain an active SAM registration with current information at all times during which it has an active Federal award or an application or plan under consideration by a Federal awarding agency. The Department may not make an RIA grant to an applicant until the applicant has complied with all applicable UEI and SAM requirements and, if an applicant has not fully complied with the requirements by the time the Department is ready to make a grant, the Department may determine that the applicant is not qualified to receive a grant and use that determination as a basis for making a grant to another applicant.

4. Submission Dates and Timelines:

a. Deadline: Applications in response to this NOFO must be submitted through Grants.gov by 11:59 p.m. EST 30 days after publication. The Grants.gov “Apply” function will open on the date of publication. The Bureau may hold NOFO information session(s) before the due date.

To apply through Grants.gov, applicants must:

(1) Obtain a Unique Entity Identifier (UEI);

(2) Register with SAM at www.sam.gov; and

(3) Create a Grants.gov username and password; and

(4) The E-business Point of Contact (POC) at the applicant's organization must also respond to the registration email from Grants.gov and login at Grants.gov to authorize the POC as an Authorized Organization Representative (AOR). Please note that there can only be one AOR per organization.

Please note that the Grants.gov registration process usually takes 4-6 weeks to complete, and that the Department will not consider late applications that are the result of failure to register or comply with Grants.gov applicant requirements in a timely manner. For information and instruction on each of these processes, please see instructions a https://www.grants.gov/web/grants/applicants/applicant-faqs.html. If interested parties experience difficulties at any point during the registration or application process, please call the Grants.gov Customer Service Support Hotline at 1(800) 518-4726, Monday-Friday from 7:00 a.m. to 9:00 p.m. EST.

5. Intergovernmental Review: Applications under this NOFO are not subject to the State review under E.O. 12372.

6. Funding Restrictions: The DOT will not reimburse any pre-award costs or application preparation costs under this proposed agreement. Construction of any project being contemplated or aided by the proposed RIA is not an allowable activity under this grant. All non-domestic travel must be approved in writing by the DOT designated agreement officer prior to incurring costs. Travel requirements under the cooperative agreement will be met using the most economical form of transportation available. If economy class transportation is not available, the request for payment vouchers must be submitted with justification for use of higher-class travel indicating dates, times, and flight numbers.

7. Other Submission Requirements:

a. Submission Location: Application must be submitted to Grants.gov.

b. Consideration of Application: Only applicants who comply with all submission deadlines described in this notice and submit applications through Grants.gov will be eligible for award. Applicants are strongly encouraged to make submissions in advance of the deadline.

c. Civil Rights: Applications should demonstrate that the recipient has a plan for compliance with civil rights obligations and nondiscrimination laws, including Title VI of the Civil Rights Act of 1964 and implementing regulations (49 CFR 21), the Americans with Disabilities Act of 1990 (ADA), and Section 504 of the Rehabilitation Act, and accompanying regulations. This may include, as applicable, providing a Title VI plan, community participation plan, and other information about the communities that will be benefited and impacted by the project. The Department's and DOT Offices of Civil Rights may provide resources and technical assistance to recipients to ensure full and sustainable compliance with Federal civil rights requirements.

d. Late Applications: Applicants experiencing technical issues with Grants.gov that are beyond the applicant's control must contact RIA@dot.gov prior to the application deadline with the username of the registrant and details of the technical issue experienced. The applicant must provide:

• Details of the technical issue experienced;

• Screen capture(s) of the technical issues experienced along with corresponding

• Grants.gov “Grant tracking number”;

• The “Legal Business Name” for the applicant that was provided in the SF-424;

• The AOR name submitted in the SF-424;

• The UEI number associated with the application; and

• The Grants.gov Help Desk Tracking Number.

To ensure a fair competition of limited discretionary funds, the following conditions are not valid reasons to permit late submissions: (1) failure to complete the registration process before the deadline; (2) failure to follow Grants.gov instructions on how to register and apply as posted on its website; (3) failure to follow all the instructions in this notice of funding opportunity; and (4) technical issues experienced with the applicant's computer or information technology environment. After the Department reviews all information submitted and contacts the Grants.gov Help Desk to validate reported technical issues, USDOT staff will contact late applicants to approve or deny a request to submit a late application through Grants.gov. If the reported technical issues cannot be validated, late applications will be rejected as untimely.

E. Application Review Information

1. Criteria: This section specifies the criteria that the Bureau will use to evaluate and award applications for Program grants. The criteria incorporate statutory eligibility requirements. For each proposed RIA, the Bureau will review the application for the criteria described in this section. The Bureau does not consider any criterion more important than the others.

The Bureau does not consider cost sharing as an independent criterion, and proposed cost sharing is considered in an application's merit evaluation only to the extent it is relevant to the criteria enumerated below in sections E.1.a-k, including Partnerships, Business Model, Readiness, Value, Equity and Accessibility, and Self-Sustainability.

a. Experience/Qualifications: The Bureau will assess whether and to what extent the applicant(s):

• Possess the ability to evaluate and promote innovative financing methods for local projects including the use of TIFIA and RRIF and other Federal assistance programs where applicable;

• Possess the ability to provide technical assistance on best practices with respect to financing projects;

• Have experience in increasing transparency with respect to infrastructure project analysis and using innovative financing for public infrastructure projects;

• Have experience in deploying predevelopment capital programs designed to facilitate the creation of a pipeline of infrastructure projects available for investment;

• Have a history of successfully bundling smaller-scale and rural projects into larger proposals that may be more attractive for private investment;

• Have demonstrated success in reducing transaction costs for public project sponsors;

• Demonstrate the capacity to accelerate projects eligible for the TIFIA credit program through the use of innovative financing strategies such as the TIFIA and RRIF credit programs, and PABs, but also other strategies such as project bundling, grant anticipation revenue vehicles, and incorporating private capital;

• Have experience in the development of project financial plans, including developing capital structures and identifying funding and financing sources, as well as a demonstrated track record for achieving financial close; and

• Have experience in working with private sector project sponsors and disadvantaged communities, including but not limited to rural and low resources communities, as well as working on revitalization projects.

An applicant that demonstrates substantial experience of 10 years or more in the development and delivery of projects, including the use of alternative delivery methods such as design-build and/or public-private partnerships as related to the items above, and innovative financing particularly the use of TIFIA, RRIF, or PABs will receive a STRONG rating in this criterion. Those who demonstrate between 5 and 9 years or more in the development and delivery of projects will receive a MODERATE rating in this category and those who demonstrate less than 5 years of experience in the development and delivery of projects will received a MARGINAL in this rating category.

b. Partnerships: The Bureau will consider the extent to which applicant(s) demonstrate strong collaboration among a broad range of stakeholders in the proposed geographic area of the RIA. Applications with strong partnerships typically involve multiple partners in project development, funding, and finance. The Bureau will consider applicants that partner with State, local, and private entities for the development, funding, financing, and delivery of transportation projects to have strong partnerships. Evaluators will also consider the relationship of the RIA with its constituencies and authorities granted by them. The Bureau will assess the ability of the proposed RIA to develop projects quickly and effectively by having the support of its members and working across jurisdictions. An applicant that can demonstrate effective partnerships with the public sector, the private sector, and academic entities will receive a STRONG rating in this criterion. Partnerships that include participation in other Federal technical assistance and capacity building programs as part of the Thriving Communities Network, which includes DOT and HUD's Thriving Communities Programs, USDA's Rural Partners Network, and the Department of Commerce Economic Recovery Corps (https://www.transportation.gov/federal-interagency-thriving-communities-network) will receive a STRONG rating. An applicant that can demonstrate an effective partnership with at least one of the aforementioned entities (public, private, academic) will receive a MODERATE rating in this criterion and those who cannot demonstrate any partnerships will receive a MARGINAL rating. For some best practices on establishing partnerships, please see DOT's Promising Practices for Meaningful Public Involvement in Transportation Decision-Making at https://www.transportation.gov/priorities/equity/promising-practices-meaningful-public-involvement-transportation-decision-making.

c. Business Model: The Bureau will assess the thoroughness, viability, and efficiency that the applicant(s) can establish the RIA, commence operations, and deliver project-specific outcomes. In conducting this assessment, evaluators will consider:

• The effort, cost, and actions necessary to initially establish the proposed RIA, including workspaces, fixed and variable costs, staffing, and the development of relationships necessary to function effectively in the proposed region.

• How the proposed RIA will operate once established, including costs, organization, efficiency, availability of the technical expertise and resources needed to accelerate project delivery, work plan, and time required to achieve operational status.

An applicant that can demonstrate the ability to stand up the RIA and achieve operations status within 6 months of executing a cooperative agreement will receive a STRONG rating in this criterion. Those who can demonstrate the ability to begin operations within 9 months will receive a MODERATE rating in this criterion and those who cannot demonstrate that the RIA will be operational within 9 months will receive a MARGINAL.

d. Pipeline: The Bureau will consider the proposed pipeline of projects and assess whether and to what extent they are likely to be eligible projects and appropriate for development activities as set forth in this notice. The proposed pipeline must include one or more projects likely to be eligible for TIFIA credit assistance. In evaluating this criterion, the Bureau will consider the number of eligible projects in the pipeline, the degree of local/regional support of the projects, and the project status and timeline as they relate to the likelihood the RIA can impact the project during the performance period of the cooperative agreement. Evaluators will also assess the degree to which the skills/experience of the applicant(s) are appropriate for the proposed projects. The Bureau will also evaluate the viability and proposed approach the applicant(s) have developed for attracting new projects into the RIA's pipeline of projects and how they propose to assist and monitor the development of those projects. An applicant that can demonstrate one or more projects in their pipeline that are likely eligible for TIFIA credit assistance, provide at least two letters indicating the degree of local/regional support for the projects and demonstrate a timeline that makes receipt of TIFIA credit assistance likely within the RIA performance period will receive a STRONG rating in this criterion. Those who can demonstrate at least one or more projects in their pipeline that are likely eligible for TIFIA credit assistance and provide at least one letter indicating the degree of local/regional support for the project(s), but whose likelihood of receipt of TIFIA credit assistance is not within the RIA performance period will receive a MODERATE rating in this criterion. Those who can demonstrate at least one or more projects in their pipeline that are likely eligible for TIFIA credit assistance but cannot provide any documentation indicating the degree of local/regional support for the project(s) or any likelihood of receipt of TIFIA credit assistance at any point during the RIA performance period will receive a MARGINAL rating.

e. Readiness: The Bureau will consider the extent to which the proposed RIA is prepared to commence operations and begin achieving project-specific results. Evaluators will also assess the viability of the proposed budget as it relates to the establishment and successful operations of the RIA as proposed. In considering this criterion, evaluators will also determine the likelihood that proposed milestones will be subject to delay and/or cost overruns and the risk that key milestones might be missed due to internal or external factors. Evaluators will also consider the readiness of the proposed RIA to commence operations, including but not limited to:

• Availability of facilities and equipment necessary to function;

• Existing governance structure as compared to proposed future structure; and

• Ability of existing relationships to rapidly deliver results.

An applicant that can demonstrate an effective plan to commence operations in at least the three aforementioned categories will receive a STRONG rating in this criterion. Those who can demonstrate an effective plan to commence operations in at least two will receive a MODERATE and those who cannot demonstrate an effective plan to commence operations in any of the above three categories will receive a MARGINAL rating.

f. Underserved Communities: In support of Executive Order 13985, Advancing Racial Equity and Support for Underserved Communities Through the Federal Government (86 FR 7009), the Department encourages applicants to consider how the project will address the challenges faced by individuals and underserved communities, including rural areas and other areas of persistent poverty.

Where applicable, the Bureau will evaluate the degree to which the proposal can support individual rural project sponsors. The Bureau will consider opportunities proposed to overcome common barriers to using TIFIA and RRIF credit assistance and other innovative financing methods for rural project sponsors, such as project size or type, financial or institutional capabilities, and other issues. Consistent with the Department's ROUTES Initiative (https://www.transportation.gov/rural), the Department recognizes that rural transportation networks face unique challenges. To the extent that those challenges are reflected in the merit criteria listed in this section, the Department will consider how the activities proposed in the application will address those challenges, regardless of the geographic location of those activities. This can include delivering innovative technical assistance and leveraging the DOT ROUTES Initiative to provide user-friendly information and other assistance to rural project sponsors. An applicant that can demonstrate an effective plan to support a rural project sponsor in overcoming common barriers to using federal credit assistance and innovative finance methods in at least one proposed project will receive a STRONG rating in this criterion. An applicant that can demonstrate a plan to support rural project sponsors who are not immediately in their pipeline will receive a MODERATE rating in this criterion and those who cannot demonstrate a plan to support rural sponsors will receive a MARGINAL rating.

g. Self-Sustainability: The Bureau will consider whether and to what extent the proposed RIA will achieve self-sustainability during the proposed award's 2-year base period of performance. If a proposed RIA does not anticipate achieving self-sustainability, the Bureau will evaluate the extent to which the execution of a cooperative agreement for the RIA might deliver long-term benefits as the result of projects delivered during the 2-year base funding period.

An applicant that can demonstrate a model of self-sustainability and continued benefits beyond the base 2-year period of Federal funding will receive a STRONG rating in this criterion. An applicant that can demonstrate a plan to achieve self-sustainability within the base 2-year period of funding based on measurable milestones will receive a MODERATE in this rating criterion and those who present no plan for self-sustainability will receive a MARGINAL in this rating.

h. Risk: The Bureau will assess the risks to successful implementation and operation of the proposed RIA, and the degree to which proposed mitigation activities might address/offset those risks. Evaluators will also assess the practicality of proposed mitigation activities in terms of cost, complexity, and time required to implement the actions.

An applicant that can demonstrate the development of, at minimum, qualitative risk assessments of proposed projects in meeting Federal eligibility requirements (see Chapter 3 of the Bureau Credit Programs Guide: https://www.transportation.gov/sites/buildamerica.dot.gov/files/2019-08/Bureau%20Credit%20Programs%20Guide_March_2017.pdf#page=29) will receive a STRONG rating in this criterion. An applicant that can demonstrate a plan to develop, at minimum, qualitative risk assessments of proposed projects within the base 2-year period of funding will receive a MODERATE rating in this criterion and those that demonstrate no risk assessments or plans to develop them will receive a MARGINAL rating.

i. Alignment with Department Priorities: The Bureau will consider the extent to which each proposed project to be aided by the RIA will address the following Department priorities:

(1) Safety: DOT will assess the project's ability to foster a safe transportation system for the movement of goods and people, consistent with the Department's strategic goal to reduce transportation-related fatalities and serious injuries across the transportation system.

(2) Environmental Sustainability: DOT will consider the extent to which the project incorporates considerations of climate change, resilience, and environmental justice in the planning stage and in project delivery, such as through incorporation of specific design elements that address climate change impacts.

(3) Equity and Accessibility: DOT will consider the extent to which the project: (i) increases transportation choices and equity for individuals; (ii) expands access to essential services for communities across the United States, particularly for underserved or disadvantaged communities; (iii) improves connectivity for citizens to jobs, health care, and other critical destinations, or (iv) proactively addresses racial equity ⁵ and barriers to opportunity, through the planning process or through incorporation of design elements.

⁵ Definitions for “racial equity” and “underserved communities” are found in Executive Order 13985, Advancing Racial Equity and Support for Underserved Communities Through the Federal Government, Sections 2 (a) and (b).

(4) Innovative Technology: Consistent with DOT's objectives to encourage transformative projects that take the lead in deploying innovative technologies and practices that drive outcomes in terms of safety, environmental sustainability, quality of life, and state of good repair, DOT will assess the extent to which the applicant uses innovative strategies, including: (i) innovative technologies, (ii) innovative project delivery, or (iii) innovative financing.

(5) State of Good Repair: Consistent with the Department's strategic objective to maintain and upgrade existing transportation systems, DOT will assess whether and to what extent: (i) the project is consistent with relevant plans to maintain transportation facilities or systems in a state of good repair and address current and projected vulnerabilities; (ii) if left unimproved, the poor condition of the asset will threaten future transportation network efficiency, mobility of goods or accessibility and mobility of people, or economic growth; (iii) the project is appropriately capitalized, including whether project sponsor has conducted scenario planning and/or fiscal impact analysis to understand the future impact on public finances; (iv) a sustainable source of revenue is available for operations and maintenance of the project and the project will reduce overall life-cycle costs; (v) the project will maintain or improve transportation infrastructure that supports border security functions; and (vi) the project includes a plan to maintain the transportation infrastructure in a state of good repair. DOT will prioritize projects that ensure the good condition of transportation infrastructure, including rural transportation infrastructure, that support commerce and economic growth. Transit Oriented Development: The Bureau will consider the extent to which the proposed project addresses Departmental priorities to improve transportation systems, including: (i) Project Types: DOT will consider whether the project incorporates economic development and related infrastructure activities. Additionally, DOT will consider whether the project supports safety, environmental-sustainability, equity, and accessibility in a mix of commercial, residential, office, and entertainment uses; and (ii) Transportation Access: DOT will consider if the project is accessible to one or more: (a) fixed guideway transit facilities, (b) passenger rail stations, (c) intercity bus stations, and (d) intermodal facilities (transit, freight transfer, etc.).

An applicant that can demonstrate a pipeline of projects that address the TOD elements described in item (6) above and four others of the above-listed Department priorities in this Section E.1(j) (Transformative Projects) will receive a STRONG rating in this criterion. An applicant that does not address the TOD elements described in item (6) but does address at least four of the other Department priorities listed above in this Section E.1(j) will receive a MODERATE rating in this criterion and an applicant that does not address the TOD elements and addresses four or fewer of other Department priorities listed above in this Section E.1(j) will receive a MARGINAL rating.

2. Review and Selection Process: A Review Team will review all eligible applications received by the deadline. This Review Team will consist of Modal Liaisons from the Federal Highway Administration (FHWA), Federal Railroad Administration (FRA) and Federal Transit Administration (FTA) and Bureau employees designated by the Executive Director. The Program application review and selection process consists of two steps: (1) the Review Team will evaluate each proposal and determine eligibility based on criteria outlined in Section C.1 of this notice and, if deemed eligible; and (2) the Review Team will evaluate the proposal based on the Selection Criteria in Section E.1 of this notice. In reviewing the application, each criterion will be given one of the following qualitative ratings: STRONG, MODERATE, or MARGINAL. These ratings are based on the proposal's alignment with the criteria. No one criterion is weighted higher or lower than the others. A collective overall assessment rating will be assigned to each application based on the qualitative ratings assigned for each evaluation criterion. The collective overall assessment will ultimately reflect how well the proposal meets the goals of the Program as stated in Section A.3. of the NOFO. Each application will be given an overall assessment rating of “high” if it receives a rating of STRONG in at least 6 of the evaluation criteria; an overall assessment rating of “medium” if it receives a rating of MODERATE or a combination of STRONG and MODERATE in at least 6 of the evaluation criteria; and an overall assessment rating of “low” if it receives a MARGINAL in 6 or more categories. The Review Team will present its findings to the Senior Review Team, which consists of Bureau Leadership, including the Executive Director. The Executive Director will finalize recommendations and present them to the Secretary. The final award decisions will be made by the Secretary of Transportation.

3. Additional Information: Prior to award, each selected applicant will be subject to a risk assessment as required by 2 CFR 200.205. The Department must review and consider any information about the applicant that is in the designated integrity and performance system accessible through SAM (currently the Federal Awardee Performance and Integrity Information System (FAPIIS)). An applicant may review information in FAPIIS and comment on any information about itself. The Department will consider comments by the applicant, in addition to the other information in FAPIIS, in making a judgment about the applicant's integrity, business ethics, and record of performance under Federal awards when completing the review of risk posed by applicants.

F. Federal Award Administration Information

1. Federal Award Notice

Following the evaluation process outlined in Section E.2, the Secretary will announce awarded projects by posting a list of selected RIA at https://www.transportation.gov/buildamerica/financing/tifia/regional-infrastructure-accelerators-program. Notice of selection is not authorization to begin performance or to incur costs for the proposed RIA. Following that announcement, the Bureau will contact the point of contact listed in the SF 424 to initiate negotiation of the cooperative agreement.

2. Administration and National Policy Requirements

Performance under the cooperative agreement will be governed by and in compliance with the following requirements as applicable to the type of organization of the recipient and any applicable sub-recipients:

All awards will be administered pursuant to the Uniform Administrative Requirements, Cost Principles and Audit Requirements for Federal Awards found in 2 CFR part 200, as adopted by DOT at 2 CFR part 1201.

Other terms and condition as well as performance requirements will be addressed in the cooperative agreement with the recipient. The full terms and conditions of the resulting cooperative agreements may vary and are subject to discussions and negotiations.

In connection with any program or activity conducted with or benefiting from funds awarded under this notice, recipients of funds must comply with all applicable requirements of Federal law, including, without limitation, the Constitution of the United States, statutory, regulatory, and public policy requirements, including without limitation, those protecting free speech, religious liberty, public welfare, the environment, and prohibiting discrimination; the conditions of performance, non-discrimination requirements, and other assurances made applicable to the award of funds in accordance with regulations of the Department of Transportation; and applicable Federal financial assistance and contracting principles promulgated by the Office of Management and Budget. In complying with these requirements, recipients must ensure that no concession agreements are denied, or other contracting decisions made based on speech or other activities protected by the First Amendment. If the Bureau determines that a recipient has failed to comply with applicable Federal requirements, the Bureau may terminate the award of funds and disallow previously incurred costs, requiring the recipient to reimburse any expended award funds.

Executive Order 13858 directs the Executive Branch Departments and agencies to maximize the use of goods, products, and materials produced in the United States through the terms and conditions of Federal financial assistance awards. If selected for an award, grant recipients must be prepared to demonstrate how they will maximize the use of domestic goods, products, and materials, as applicable, in establishing and operating the RIA. Additionally, recipients should be prepared to demonstrate in their application how the RIA addresses the goals and priorities of the Department's new strategic plan. These include: (1) Safety, (2) Economic Strength and Global Competitiveness, (3) Climate and Sustainability, (4) Transformation, and (5) Organizational Excellence. These can include projects that: (1) Are consistent with the National Roadway Safety Strategy, (2) Improves access or provides economic growth opportunities for underserved, overburdened, or rural communities, (3) Considers climate change and sustainability impacts in its planning and construction, (4) Have innovative approaches or delivery methods, and (5) Support Organizational Excellence.

As a condition of grant award, grant recipients may be required to participate in an evaluation undertaken by DOT or another agency or partner. The evaluation may take different forms such as an implementation assessment across grant recipients, an impact and/or outcomes analysis of all or selected sites within or across grant recipients, or a benefit/cost analysis or assessment of return on investment. DOT may require applicants to collect data elements to aid the evaluation and/or use information available through other reporting. As a part of the evaluation, as a condition of award, grant recipients must agree to: (1) make records available to the evaluation contractor or DOT staff; (2) provide access to program records, and any other relevant documents to calculate costs and benefits; (3) in the case of an impact analysis, facilitate the access to relevant information as requested; and (4) follow evaluation procedures as specified by the evaluation contractor or DOT staff.

Recipients and subrecipients are also encouraged to incorporate program evaluation including associated data collection activities from the outset of their program design and implementation to meaningfully document and measure their progress towards meeting an agency priority goal(s). Title I of the Foundations for Evidence-Based Policymaking Act of 2018 (Evidence Act), Public Law No. 115-435 (2019) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 311. Credible program evaluation activities are implemented with relevance and utility, rigor, independence and objectivity, transparency, and ethics (OMB Circular A-11, Part 6 Section 290).

For grant recipients receiving an award, evaluation costs are allowable costs (either as direct or indirect), unless prohibited by statute or regulation, and such costs may include the personnel and equipment needed for data infrastructure and expertise in data analysis, performance, and evaluation. (2 CFR part 200).”

3. Reporting

a. Progress Reporting on Grant Activities

Each applicant selected for RIA grant funding must submit semi-annual progress reports as agreed to in the cooperative agreement to monitor RIA progress and ensure accountability and financial transparency in the RIA grant program.

b. Performance Reporting

Each applicant selected for RIA grant funding must collect and report to the Bureau information on the RIA's performance. The specific performance information and reporting period will be determined on an individual basis. It is anticipated that the Bureau and the grant recipient will hold monthly progress meetings or calls during which the Bureau will review project activities, schedule, and progress toward mutually agreed upon performance targets in the cooperative agreement. If the award is greater than $500,000 over the period of performance, applicants must adhere to the post award reporting requirements reflected in 2 CFR part 200 Appendix XII—Award Term and Condition for Recipient Integrity and Performance Matters.

c. Reporting of Matters Related to Recipient Integrity and Performance

If the total value of a selected applicant's currently active grants, cooperative agreements, and procurement contracts from all Federal awarding agencies exceeds $10,000,000 for any period of time during the period of performance of this Federal award, then the applicant during that period of time must maintain the currency of information reported to the SAM that is made available in the designated integrity and performance system (currently FAPIIS) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contacts

For further information concerning this notice please contact the Bureau via email at RIA@dot.gov or call Carl Ringgold at 202-366-2750 or Carl.Ringgold@dot.gov. A TDD is available for individuals who are deaf or hard of hearing at 202-366-3993. In addition, the Bureau will post answers to questions and requests for clarifications on the Bureau's website at https://www.transportation.gov/buildamerica/financing/tifia/regional-infrastructure-accelerators-program. To ensure applicants receive accurate information about eligibility or the Program, the applicant is encouraged to contact the Bureau directly, rather than through intermediaries or third parties, with questions. Bureau staff may also conduct briefings on the Program grant selection and award process upon request.

H. Other Information

1. Protection of Confidential Business Information: All information submitted as part of or in support of any application shall use publicly available data or data that can be made public and methodologies that are accepted by industry practice and standards, to the extent possible. If the applicant submits information that the applicant considers to be a trade secret or confidential commercial or financial information, the applicant must provide that information in a separate document, which the applicant may cross-reference from the application narrative or other portions of the application. For the separate document containing confidential information, the applicant must do the following: (1) State on the cover of that document that it “Contains Confidential Business Information (CBI)”; (2) mark each page that contains confidential information with “CBI”; (3) highlight or otherwise denote the confidential content on each page; and (4) at the end of the document, indicate whether the CBI is information the applicant keeps private and is of the type of information the applicant regularly keeps private. The Bureau/DOT will protect confidential information complying with these requirements to the extent required under applicable law. If the Bureau receives a Freedom of Information Act (FOIA) request for the information that the applicant has marked in accordance with this section, the Bureau will follow the procedures described in its FOIA regulations at 49 CFR 7.29.

2. Publication/Sharing of Application Information: Following the completion of the selection process and announcement of awards, the Bureau intends to publish a list of all applications received along with the names of the applicant organizations and funding amounts requested. Except for the information properly marked as described in Section H.1, the Bureau may make application narratives publicly available or share application information within DOT or with other Federal agencies if DOT determines that sharing is relevant to the respective program's objectives.

3. Department Feedback on Application: The Bureau strives to provide as much information as possible to assist applicants with the application process. The Bureau will not review applications in advance, but Bureau staff are available for technical questions and assistance.

4. Rural Opportunities: User-friendly information and resources regarding DOT's discretionary grant programs relevant to rural applicants can be found on the Rural Opportunities to Use Transportation for Economic Success (ROUTES) website at transportation.gov/rural.

Issued in Washington, DC.
Peter Paul Montgomery Buttigieg,
Secretary of Transportation.

[FR Doc. 2023-08907 Filed 4-26-23; 8:45 am]

BILLING CODE 4910-9X-P